DEPARTMENT OF EDUCATION

Membership of the Performance Review Board

AGENCY: Office of Finance and Operations, Department of Education.

ACTION: Notice.

SUMMARY: The Secretary publishes a list of persons who may be named to serve on the Performance Review Board that oversees the evaluation of performance appraisals for Senior Executive Service members of the Department.

DATES: October 9, 2019.

FOR FURTHER INFORMATION CONTACT: Valarie Barclay, Director, Executive Resources Division, Office of Human Resources, Office of Finance and Operations, U.S. Department of Education, 400 Maryland Avenue SW, Room 210-00, LBJ, Washington, DC 20202-4573. Telephone: (202) 453-5918.

If you use a telecommunications device for the deaf (TDD), or text telephone (TTY), you may call the Federal Relay Service (FRS) at 1-800-877-8339.

SUPPLEMENTARY INFORMATION:

Membership

Under the Civil Service Reform Act of 1978, Public Law 95-454 (5 U.S.C. 4314(c)(4), we must publish in the Federal Register a list of persons who may be named to serve on the Performance Review Board that oversees the evaluation of performance appraisals for Senior Executive Service members of the Department. The following persons may be named to serve on the Performance Review Board:

ASHLEY, CAROL

BAILEY, NATHAN

BATTLE, SANDRA

BRINTON, JED

BRUCE, SANDRA

BYRD-JOHNSON, LINDA

CARR, PEGGY G.

CARTER, DENISE L.

CHANG, LISA

CHAPMAN, CHRISTOPHER

CHAVEZ, ANTHONY

CONATY, JOSEPH C.

CORDES, WILLIAM

CURRELL, DANIEL

DOONE, ALISON

EITEL, ROBERT

ELIADIS, PAMELA D.

ELLIS, KATHRYN A.

FORTELNEY, GREGORY

GOODRIDGE-KEILLER, MARCELLA

GRAY, JASON

HAIRFIELD, JAMES

HARDING, JORDAN

HAYNES, LEONARD

HERNANDEZ, STEVEN

JACKSON, CANDICE

JONES, DIANE

JORDAN, AARON

KARVONIDES, MIA

KEAN, LARRY

KIM, ANN

KOEPPEL, DENNIS P.

MAESTRI, PHILLIP

MAHAFFIE, LYNN B.

MALAWER, HILARY

MANCUSO, ROBERT

MCCAGHREN, CHRISTOPHER

MCDONALD, WALTER

MCLAUGHLIN, MAUREEN A.

MEFFORD, PENNY

METHFESSEL, HARLEY

MILLER, DANIEL

MORRIS, DAVID

PARK, ALBERT

RICHEY, KIMBERLY

RIDDLE, PAUL N.

RINKUS, CHRISTOPHER

ROSENFELT, PHILIP H.

RUBINSTEIN, REED

RYDER, RUTH

SACKS, CASEY

SALO, DONALD

SANTY, ROSS JR.

SASSER, TRACEY L.

SCOTT, JANET

SIMMONS, LEE-DOUGLASS

SIMPSON, DANIEL

SMITH, MARK

ST. PIERRE, TRACEY

STADER, JAMES

STANTON, CRAIG

TALBERT, KENT

TRACHMAN, WILLIAM

VANDERPLOEG, LAURIE

VIANA, AIMEE

VIANA, JOSE

WASHINGTON, MARK

WILLS, RANDOLPH E.

WOOD, GARY H.

Accessible Format: Individuals with disabilities may obtain this document in an alternative format (e.g., braille, large print, audiotape, or compact disc) on request to the contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Dated: October 4, 2019.
Betsy DeVos,
Secretary of Education.

[FR Doc. 2019-22076 Filed 10-8-19; 8:45 am]

BILLING CODE 4000-01-P